SECURITIES AND EXCHANGE COMMISSION

[Release No. 34-97435; File No. SR-NYSEARCA-2023-06]

Self-Regulatory Organizations; NYSE Arca, Inc.; Notice of Withdrawal of Proposed Rule Change To Amend Rule 7.44-E Relating to the Retail Liquidity Program

May 4, 2023.

On January 10, 2023, NYSE Arca, Inc. (the “Exchange”) filed with the Securities and Exchange Commission (the “Commission”), pursuant to Section 19(b)(1) of the Securities Exchange Act of 1934 (“Act”) ¹ and Rule 19b-4 thereunder,² a proposed rule change to amend the Exchange's Retail Liquidity Program. The proposed rule change was published for comment in the Federal Register on January 30, 2023.³ The Commission received no comment letters on the proposed rule change. On March 15, 2023, pursuant to Section 19(b)(2) of the Act,⁴ the Commission designated a longer period within which to approve the proposed rule change, disapprove the proposed rule change, or institute proceedings to determine whether to approve or disapprove the proposed rule change.⁵ On April 25, 2023, the Exchange withdrew the proposed rule change (SR-NYSEARCA-2023-06).

¹ 15 U.S.C.78s(b)(1).

² 17 CFR 240.19b-4.

³ See Securities Exchange Act Release No. 96741 (Jan. 24, 2023), 88 FR 5948.

⁴ 15 U.S.C. 78s(b)(2).

⁵ See Securities Exchange Act Release No. 97145 (Mar. 15, 2023), 88 FR 17071 (Mar. 21, 2023). The Commission designated April 28, 2023 as the date by it should approve, disapprove, or institute proceedings to determine whether to disapprove the proposed rule change.

For the Commission, by the Division of Trading and Markets, pursuant to delegated authority.⁶
⁶ 17 CFR 200.30-3(a)(12).
Sherry R. Haywood,
Assistant Secretary.

[FR Doc. 2023-09908 Filed 5-9-23; 8:45 am]

BILLING CODE 8011-01-P